DEPARTMENT OF THE INTERIOR

Fish and Wildlife Service

50 CFR Part 17

[Docket No. FWS-R4-ES-2013-0007; 4500030113]

RIN 1018-AZ30

Endangered and Threatened Wildlife and Plants; Designating Critical Habitat for the Neosho Mucket and Rabbitsfoot

AGENCY: Fish and Wildlife Service, Interior.

ACTION: Proposed rule; reopening of comment period.

SUMMARY: We, the U.S. Fish and Wildlife Service, announce the reopening of the public comment period on our October 16, 2012, proposed designation of critical habitat for the Neosho mucket (Lampsilis rafinesqueana) and rabbitsfoot (Quadrula cylindrica cylindrica) mussels under the Endangered Species Act of 1973, as amended (Act). In response to requests we received, we are reopening the comment period to allow all interested parties an opportunity to comment on the proposed designation of critical habitat, draft environmental assessment, and draft economic analysis. Comments previously submitted need not be resubmitted, as they will be fully considered in our determinations on this rulemaking action.

DATES: For the proposed rule published October 16, 2012 (77 FR 63440), we will consider all comments received or postmarked on or before October 28, 2013. Comments submitted electronically using the Federal eRulemaking Portal (see ADDRESSES, below) must be received by 11:59 p.m. Eastern Time on the closing date.

ADDRESSES: Document availability: You may obtain copies of the proposed rule on the Internet at http://www.regulations.gov at Docket No. FWS-R4-ES-2012-0031, or by mail from the Arkansas Ecological Services Field Office (see FOR FURTHER INFORMATION CONTACT). You may obtain a copy of the draft economic analysis and the draft environmental assessment at Docket No. FWS-R4-ES-2013-0007.

Comment submission: You may submit written comments by one of the following methods:

(1) Electronically: Go to the Federal eRulemaking Portal: http://www.regulations.gov. Search for Docket No. FWS-R4-ES-2013-0007.

(2) By hard copy: Submit comments by U.S. mail or hand-delivery to: Public Comments Processing, Attn: FWS-R4-ES-2013-0007; Division of Policy and Directives Management; U.S. Fish and Wildlife Service; 4401 N. Fairfax Drive, MS 2042-PDM; Arlington, VA 22203.

We request that you send comments only by the methods described above. We will post all comments on http://www.regulations.gov. This generally means that we will post any personal information you provide us (see the Public Comments section below for more information).

FOR FURTHER INFORMATION CONTACT: Jim Boggs, Field Supervisor, U.S. Fish and Wildlife Service, Arkansas Ecological Services Field Office, 110 South Amity Road, Suite 300, Conway, AR 72032; by telephone 501-513-4475; or by facsimile 501-513-4480. Persons who use a telecommunications device for the deaf (TDD) may call the Federal Information Relay Service (FIRS) at 800-877-8339.

SUPPLEMENTARY INFORMATION:

Background

On October 16, 2012, the Service published a proposed rule in the Federal Register (77 FR 63440) to list the Neosho mucket (Lampsilis rafinesqueana) as an endangered species and the rabbitsfoot (Quadrula cylindrica cylindrica) as a threatened species under the Act and to designate critical habitat for these two mussels. We proposed to designate approximately 779.1 river kilometers (rkm) (484.1 river miles (rmi)) of critical habitat for the Neosho mucket in the Cottonwood, Elk, Fall, Illinois, Neosho, Shoal, Spring, North Fork Spring, and Verdigris Rivers in Arkansas, Kansas, Missouri, and Oklahoma. The proposed critical habitat for the Neosho mucket is located in:

• Benton and Washington Counties, Arkansas;

• Allen, Chase, Cherokee, Coffey, Elk, Greenwood, Labette, Montgomery, Neosho, Wilson, and Woodson Counties, Kansas;

• Jasper, Lawrence, McDonald, and Newton Counties, Missouri; and

• Adair, Cherokee, and Delaware Counties, Oklahoma.

We proposed to designate 2,664 rkm (1,655 rmi) of critical habitat for the rabbitsfoot in the Neosho, Spring (Arkansas River system), Verdigris, Black, Buffalo, Little, Ouachita, Saline, Middle Fork Little Red, Spring (White River system), South Fork Spring, Strawberry, White, St. Francis, Big Sunflower, Big Black, Paint Rock, Duck, Tennessee, Red, Ohio, Allegheny, Green, Tippecanoe, Walhonding, Middle Branch North Fork Vermilion, and North Fork Vermilion Rivers and Bear, French, Muddy, Little Darby and Fish Creeks in Alabama, Arkansas, Kansas, Kentucky, Illinois, Indiana, Mississippi, Missouri, Ohio, Oklahoma, Pennsylvania, and Tennessee. The proposed critical habitat for the rabbitsfoot is located in:

• Colbert, Jackson, Madison, and Marshall Counties, Alabama;

• Arkansas, Ashley, Bradley, Clark, Cleveland, Dallas, Drew, Fulton, Grant, Hot Spring, Independence, Izard, Jackson, Lawrence, Little River, Marion, Monroe, Montgomery, Newton, Ouachita, Randolph, Saline, Searcy, Sevier, Sharp, Van Buren, White, and Woodruff Counties, Arkansas;

• Allen and Cherokee Counties, Kansas;

• Ballard, Green, Hart, Livingston, Logan, Marshall, and McCracken Counties, Kentucky;

• Massac, Pulaski, and Vermilion Counties, Illinois;

• Carroll, Pulaski, Tippecanoe, and White Counties, Indiana;

• Hinds, Sunflower, Toshimingo, and Warren Counties, Mississippi;

• Jasper, Madison, and Wayne Counties, Missouri;

• Coshocton, Madison, Union, and Williams Counties, Ohio;

• McCurtain and Rogers Counties, Oklahoma;

• Crawford, Erie, Mercer, and Venango Counties, Pennsylvania; and

• Hardin, Hickman, Marshall, Maury, and Robertson Counties, Tennessee.

That proposal had a 60-day comment period, ending December 17, 2012.

On May 9, 2013, we announced the reopening of the comment period for the proposed listing of Neosho mucket and rabbitsfoot and the availability of our draft environmental assessment (DNEPA-EA) and draft economic analysis (DEA) of the proposed critical habitat (78 FR 27171). The comment period was reopened for 30 days, ending on June 10, 2013. We received two requests for the reopened comment period to be extended so that the public could have additional time to review the draft environmental assessment and draft economic analysis. The requests were from Senator Mark Pryor of Arkansas and the Kansas Farm Bureau. Therefore, with this notice we are reopening the comment period on the proposed designation of critical habitat and the draft EA and NEPA-EA for an additional 60 days.

Pursuant to a court-ordered deadline, we must make a final determination on whether to list Neosho mucket and rabbitsfoot by September 30, 2013. Although we published the proposal to list the species and the proposal to designate critical habitat on October 16, 2012, as one rule, we intend to publish the final rule listing the species and the final determination on critical habitat separately. Additionally, in order to allow additional opportunity for public comment on the critical habitat proposal, we plan to publish the final critical habitat determination later than the listing determination.

Additional information may be found in the October 16, 2012, proposed rule (77 FR 63440) and the May 9, 2013, reopening of the comment period and availability of the draft environmental assessment and draft economic analysis (78 FR 27171).

Public Comments

We are again seeking written comments and information during this reopened comment period on our proposed designation of critical habitat for Neosho mucket and rabbitsfoot that published in the Federal Register on October 16, 2012 (77 FR 63440), and on our draft environmental assessment and draft economic analysis of the proposed critical habitat designation and the amended required determinations that were made available for review on May 9, 2013 (78 FR 27171).

With regard to the proposed critical habitat determination, we are particularly interested in comments concerning:

(1) The reasons why we should or should not designate habitat as “critical habitat” under section 4 of the Act, including whether there are threats to the species from human activity, the degree of which can be expected to increase due to the designation, and whether that increase in threat outweighs the benefit of designation such that the designation of critical habitat is not prudent.

(2) Specific information on:

(a) The amount and distribution of the species' habitat;

(b) What areas occupied by the species at the time of listing that contain features essential for the conservation of the species we should include in the designation and why;

(c) Special management considerations or protection that may be needed in critical habitat areas we are proposing, including managing for the potential effects of climate change; and

(d) What areas not occupied at the time of listing are essential to the conservation of the species and why.

(3) Land use designations and current or planned activities in the subject areas and their possible impacts on proposed critical habitat.

(4) Any foreseeable economic, national security, or other relevant impacts that may result from designating any area that may be included in the final designation. We are particularly interested in any impacts on small entities and the benefits of including or excluding areas from the proposed designation that are subject to these impacts.

(5) Whether our approach to designating critical habitat could be improved or modified in any way to provide for greater public participation and understanding, or to assist us in accommodating public concerns and comments.

If you submitted comments or information on the proposed rule (77 FR 63440) during the initial comment period from October 16, 2012, to December 17, 2012, or the reopened comment period (78 FR 27171) from May 9, 2013, to June 10, 2013, please do not resubmit them. We have incorporated them into the public record as part of the original comment period, and we will fully consider them in our final determinations.

You may submit your comments and materials concerning the proposed rules by one of the methods listed in ADDRESSES. We request that you send comments only by the methods described in ADDRESSES.

If you submit a comment via http://www.regulations.gov, your entire comment—including any personal identifying information—will be posted on the Web site. We will post all hardcopy comments on http://www.regulations.gov as well. If you submit a hardcopy comment that includes personal identifying information, you may request at the top of your document that we withhold this information from public review. However, we cannot guarantee that we will be able to do so.

Comments and materials we receive, as well as supporting documentation we used in preparing the proposed rule, will be available for public inspection on http://www.regulations.gov at Docket No. FWS-R4-ES-2013-0007 for the proposed critical habitat designation, or by appointment, during normal business hours, at the U.S. Fish and Wildlife Service, Arkansas Ecological Services Field Office (see FOR FURTHER INFORMATION CONTACT).

Authority

The authority for this action is the Endangered Species Act of 1973, as amended (16 U.S.C. 1531 et seq.).

Dated: August 12, 2013.
Rachel Jacobson,
Principal Deputy Assistant Secretary for Fish and Wildlife and Parks.

[FR Doc. 2013-20671 Filed 8-26-13; 8:45 am]

BILLING CODE 4310-55-P